ENVIRONMENTAL PROTECTION AGENCY

[EPA-R01-OW-2011-0364, FRL-9430-1]

Massachusetts Marine Sanitation Device Standard—Notice of Determination

AGENCY: Environmental Protection Agency (EPA).

ACTION: Notice of Determination.

SUMMARY: The Regional Administrator of the Environmental Protection Agency—New England Region, has determined that adequate facilities for the safe and sanitary removal and treatment of sewage from all vessels are reasonably available for the coastal waters of Chatham, Orleans, Eastham, Wellfleet, Truro, and Provincetown, collectively termed the Outer Cape Cod for the purpose of this notice.

ADDRESSES: Docket: All documents in the docket are listed in the http://www.regulations.gov index. Although listed in the index, some information is not publicly available, e.g., CBI or other information whose disclosure is restricted by statute. Certain other material, such as copyrighted material, will be publicly available only in hard copy. Publicly available docket materials are available electronically in http://www.regulations.gov.

FOR FURTHER INFORMATION CONTACT: Ann Rodney, U. S. Environmental Protection Agency—New England Region, Office of Ecosystem Protection, Oceans and Coastal Protection Unit, Five Post Office Square, Suite 100, OEP06-1, Boston, MA 02109-3912. Telephone: (617) 918-1538. Fax number: (617) 918-0538. E-mail address: rodney.ann@epa.gov.

SUPPLEMENTARY INFORMATION: On April 29, 2011, EPA published a notice that the Commonwealth of Massachusetts had petitioned the Regional Administrator, Environmental Protection Agency, to determine that adequate facilities for the safe and sanitary removal and treatment of sewage from all vessels are reasonably available for the waters of the Outer Cape Cod. Four comments were received on this petition. The response to comments can be obtained utilizing the above contact information.

The petition was filed pursuant to Section 312(f)(3) of Public Law 92-500, as amended by Public Laws 95-217 and 100-4, for the purpose of declaring these waters a No Discharge Area (NDA).

Section 312(f)(3) states: After the effective date of the initial standards and regulations promulgated under this section, if any State determines that the protection and enhancement of the quality of some or all of the waters within such State require greater environmental protection, such State may completely prohibit the discharge from all vessels of any sewage, whether treated or not, into such waters, except that no such prohibition shall apply until the Administrator determines that adequate facilities for the safe and sanitary removal and treatment of sewage from all vessels are reasonably available for such water to which such prohibition would apply.

This Notice of Determination is for the waters of the Outer Cape Cod. The NDA boundaries are as follows:

Waterbody/General Area | From Longitude | From Latitude | To Longitude | To Latitude
The westernmost landward boundary of the NDA starting on the south side of Chatham is an imaginary line drawn between the western part of the outlet of Stage Harbor and the northern tip of Monomoy Island (All state waters east of Monomoy Island are included in this NDA) | 69° 59′ 0″ W | 41° 39′ 26″ N | 69° 59′ 0″ W | 41° 37′ 20″ N
The southwestern boundary then continues from the southern tip of Monomoy Island through two navigational aids to the state/federal waters boundary | 70° 0′ 36″ W | 41° 32′ 30″ N | 70° 0′ 11″ W | 41° 29′ 15″ N
The landward boundary of the NDA follows the mean high water line from Chatham to Provincetown except at an imaginary line drawn between: (This imaginary line is across the mouth of Pleasant Bay, which is already an NDA) | 69° 56′ 36″ W | 41° 39′ 40″ N | 69° 56′ 6″ W | 41° 40′ 56″ N
The westernmost boundary on the northern side of Cape Cod is an imaginary line drawn from three miles off shore to the mean high water line in Provincetown (This imaginary line is contiguous with the Cape Cod Bay NDA) | 70° 10′ 0″ W | 42° 7′ 59″ N | 70° 10′ 0″ W | 42° 4′ 47″ N

The boundaries were chosen based on easy line-of-sight locations and generally represent all navigational waters. The area includes the municipal waters of Chatham, Orleans, Eastham, Wellfleet, Truro, and Provincetown, and from mean high water out to the state/federal boundary.

The information submitted to EPA by the Commonwealth of Massachusetts certifies that there is one landside pumpout facility at Goose Hummock Marine in Orleans within the proposed area available to the boating public. The location, contact information, hours of operation, and water depth are provided at the end of this notice.

Based on the examination of the petition and its supporting documentation, and information from site visits conducted by EPA New England staff, EPA has determined that adequate facilities for the safe and sanitary removal and treatment of sewage from all vessels are reasonably available for the area covered under this determination.

This determination is made pursuant to Section 312(f)(3) of Public Law 92-500, as amended by Public laws 95-217 and 100-4.

Pumpout Facility Within the No Discharge Area
[Outer Cape COD]
Name | Location | Contact info. | Hours | Mean low water depth
Goose Hummock Marine, Nauset Harbor | 13 Old County Rd., Orleans, MA | 508-255-2620 VHF 16 | On call | 3 ft.

Dated: June 27, 2011.
Ira W. Leighton,
Acting Regional Administrator, New England Region.

[FR Doc. 2011-16879 Filed 7-5-11; 8:45 am]

BILLING CODE 6560-50-P